DEPARTMENT OF TRANSPORTATION

National Highway Traffic Safety Administration

[Docket No. NHTSA-2022-0009]

Agency Information Collection Activities; Notice and Request for Comment; National Survey of the Use of Booster Seats

AGENCY: National Highway Traffic Safety Administration (NHTSA), Department of Transportation (DOT).

ACTION: Notice and request for comments on a renewal of an existing clearance.

SUMMARY: In compliance with the Paperwork Reduction Act of 1995 (PRA), this notice announces that the Information Collection Request (ICR) summarized below will be submitted to the Office of Management and Budget (OMB) for review and approval. The ICR describes the nature of the information collection and its expected burden. This document describes a collection of information for which NHTSA intends to seek OMB approval on the National Survey of the Use of Booster Seats (NSUBS). A Federal Register Notice with a 60-day comment period soliciting comments on the following information collection was published on February 16, 2022. NHTSA received 3 comments. As explained in this document, none of the comments necessitate NHTSA making any revisions to the information collection or burden estimates.

DATES: Comments must be submitted on or before June 17, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Lacey L. Boyle, Office of Traffic Records and Analysis, Mathematical Analysis Division (NSA-210), 202-366-7468, National Center for Statistics and Analysis, W55-207, U.S. Department of Transportation, 1200 New Jersey Avenue SE, Washington, DC 20590. Please identify the relevant collection of information by referring to its OMB Control Number (2127-0644).

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

A Federal Register notice with a 60-day comment period soliciting public comments on the following information was published on February 16, 2022 (87 FR 8929).

Title: National Survey of the Use of Booster Seats.

OMB Control Number: 2127-0644.

Form Number(s): NHTSA Form 1010.

Type of Request: Extension of a currently approved information collection.

Type of Review Requested: Regular.

Requested Expiration Date of Approval: 3 years from date of approval.

Summary of the Collection of Information: The National Survey of the Use of Booster Seats (NSUBS) is a voluntary collection of restraint use information for children under 13. NSUBS is a biennial collection. Data collectors observe restraint use for all passenger vehicle occupants included in the survey and for those vehicles that voluntarily participate, the data collectors conduct a brief interview with the vehicle driver or other knowledgably adult to determine the age, height, weight, race, and ethnicity of the child occupants and age of driver. Data collectors collect the information at fast food restaurants, gas stations, day care centers, and recreation centers where vehicles are most likely to have child occupants. The survey estimates restraint use for all children under 13. The collection includes race and ethnicity breakouts of restraint use among all occupants in a vehicle as well as age, height, and weight of children.

Description of the Need for the Information and Proposed Use of the Information: The NSUBS is conducted to respond to Section 14(i) of the Transportation Recall Enhancement, Accountability, and Documentation (TREAD) Act of 2000. The Act directs the Department of Transportation to reduce deaths and injuries (among children in the 4- to 8-year old age group that are caused by failure to use a booster seat) by twenty-five percent. Conducting the National Survey of the Use of Booster Seats provides the Department with invaluable information on use and non-use of booster seats, helping the Department to improve its outreach programs to ensure that children are protected to the greatest extent possible when they ride in motor vehicles. The OMB approval for this survey is scheduled to expire on June 30, 2022. NHTSA seeks an extension to this approval to obtain this important survey data, save more children, and help to comply with the TREAD Act requirement.

60-day Notice: NHTSA published a 60-day notice on February 16, 2022 requesting comments on NHTSA's intention to request approval from the Office of Management and Budget (OMB) for an extension of the currently approved NSUBS information collection (87 FR 8929). NHTSA received 3 comments on the 60-day notice. Two of the commentors expressed support to continue the NSUBS, while one commentor was against the continuation of the NSUBS. None of the comments necessitate a revision of the scope of the information collection or the estimates of the annual cost or burden hours.

One individual, Jean Publee, commented against the continuation of the NSUBS. Publee states that NHTSA has collected the NSUBS for years and believes that the data collection should not go on without an end date. Publee states that the NSUBS is a waste of tax dollars. While NHTSA understands Publee's comments, NHTSA believes that the continuation of this data collection is necessary to support NHTSA's mission. The NSUBS is the only probability-based nationwide child restraint use survey in the United States that observes restraint use. Without this survey, NHTSA cannot direct outreach programs where they are most needed.

NHTSA received two comments supporting the continuation of the NSUBS. Safe Kids Worldwide state that it supports the continuation of the NSUBS and uses the information collected from the NSUBS to develop and advocate policy around child safety in cars. SafetyBeltSafe U.S.A. (SBS USA) also shared its support for the continuation of the NSUBS, but stated that in addition to what NSUBS already collects they would like more detailed data reporting. SBS USA mentions that 16 States and DC mandate rear-facing car seats until age 2. SBS USA wants to know if these laws are working in States with these requirements vs. States without these requirements. NHTSA does not collect data in every State and applies sampling weights to produce nationally representative estimates; however NHTSA will consider this suggestion and determine if the current sample design will allow reporting of usage rate based on child restraint laws. SBS USA is concerned about booster seat usages vs. booster seat need especially for children 8- to 12-years old. SBS USA suggests having parents conduct the 5-Step Test on children using seatbelts and record the results. NHTSA appreciates the suggestion and will consider it for the future. At this time, adding the 5-Step Test is out of scope of the NSUBS. NHTSA's purpose in conducting the NSUBS is to assess the extent to which children are prematurely transitioned to restraint types that are inappropriate for their age, height, and weight. The data collectors have a limited amount of time to visually inspect restraint usage and interview drivers, adding the 5-Step Test is time prohibitive. NHTSA does record the age of interviewed children and will consider breaking out data based on the age range of 8-9 and 10-12 as it might give more insight into how older and younger kids in the 8-12 age range are transitioned to different restraint types.

Affected Public: Motorists in passenger vehicles with children under 13 willing to participate at gas stations, fast food restaurants, day care centers, and recreation centers frequented by children during the time in which the survey is conducted.

Estimated Number of Respondents: Based on the average number of respondents from the last three survey years (2017, 2019, 2021), we expect to have approximately 5,300 adult motorists in passenger vehicles with children under 13 at gas stations, fast food restaurants, day care centers, and recreation as respondents.

Frequency: Biennial.

Estimated Total Annual Burden Hours: NHTSA estimates that the data collection will, on average, take approximately 4.25 minutes of each respondent's time. Respondents are adult motorists supplying information about children in their vehicle. Multiplying the 4.25 minutes of burden per respondent by the estimated 5,300 respondents yields 376 (5,300 × 4.25/60) total burden hours for all respondents collectively. Since NSUBS data are collected biennially, dividing the 376 total burden hours by two yields an annual burden of 188 hours.

To represent the value of the respondents' time, NHTSA uses the average hourly wage for the United States, which is estimated to be $27.07.¹ Using this estimate, NHTSA estimates the total opportunity costs to respondents to be $10,178.32 (376 × $27.07) or $5,089.16 annually.

¹ U.S. Dept. of Labor, Bureau of Labor Statistics, June 2021, from https://www.bls.gov/oes/current/oes_nat.htm#00-0000 for May 2020.

Estimated Total Annual Burden Cost: $0.

NHTSA estimates that there are no costs to respondents other than opportunity costs associated with the burden hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Chou-Lin Chen,
Associate Administrator for the National Center for Statistics and Analysis.

[FR Doc. 2022-10629 Filed 5-17-22; 8:45 am]

BILLING CODE 4910-59-P